Title 3—

The President

Proclamation 9527 of October 26, 2016

National Historically Black Colleges and Universities Week, 2016

By the President of the United States of America

A Proclamation

America's Historically Black Colleges and Universities (HBCUs) are living monuments to the cause that has driven each generation of our citizens in the task of perfecting our Union—helping ensure that all people can experience the fullest measure of equality, justice, and possibility. Embodying the notion that the ability to pursue a higher education should be an opportunity available to all, rather than a privilege for a few, these campuses were built from a determination to widely and profoundly expand the reach of our country's promise. During National Historically Black Colleges and Universities Week, we celebrate this aspiration and reaffirm our support for HBCUs.

Rendered possible by the extraordinary sacrifices and commitment of women and men who resolved to make real and enduring the new birth of freedom that echoed across our country following the end of the Civil War, the rise of these proud institutions marked the beginning of a new chapter in our national narrative. With each generation, HBCUs have shaped America for the better in indelible ways. From a pastor who would give voice to equality's cause to the great-grandson of a slave who would reach the bench of our highest court; from pioneers of medical and scientific breakthroughs to creators of innovative and prosperous businesses; from artists who expand the boundaries of expression to historians who illuminate our past and help us write our future, so much of the progress that has come to define America has been carried forward by graduates, academics, and leaders of these colleges and universities.

Since I took office, my Administration has focused on expanding opportunity and opening doors of higher education for more people. We have increased Pell Grants, expanded student loan assistance going directly to students, cut taxes for those paying tuition, allowed students to cap their Federal loan payments at 10 percent of their income, and created the College Scorecard to assist prospective students in understanding their options for pursuing a higher education. Today, more Americans are earning a degree in post-secondary education than ever before, and HBCUs are playing an important role. In the 6 years since I signed an Executive Order bolstering the White House Initiative on HBCUs, we have helped ensure that more students have greater opportunities and that these institutions can benefit from a fuller range of Federal programs and assistance. HBCUs and community colleges help build our Nation's economy and strengthen the middle class, which is why I am working to make 2 years of community college free for hardworking students across our country through America's College Promise—a proposal that also helps 4-year HBCUs provide more low-income students with up to 2 years of college for free or at reduced tuition.

This week, we recognize the ways in which HBCUs are central to our experience as a Nation and recommit ourselves to the work that lies ahead. Let us honor the spirit in which these institutions were constructed by reaffirming the enduring truths at their core, and let us continue endeavoring to ensure all people have the chance to access higher education and secure ever greater opportunity.

NOW, THEREFORE, I, BARACK OBAMA, President of the United States of America, by virtue of the authority vested in me by the Constitution and the laws of the United States, do hereby proclaim October 23 through October 29, 2016, as National Historically Black Colleges and Universities Week. I call upon educators, public officials, professional organizations, corporations, and all Americans to observe this week with appropriate programs, ceremonies, and activities that acknowledge the countless contributions these institutions and their alumni have made to our country.

IN WITNESS WHEREOF, I have hereunto set my hand this twenty-first day of October, in the year of our Lord two thousand sixteen, and of the Independence of the United States of America the two hundred and forty-first.

[FR Doc. 2016-26070

Filed 10-25-16; 11:15 am]

Billing code 3295-F7-P